FEDERAL COMMUNICATIONS COMMISSION

47 CFR Part 73

[DA 03-2716, MM Docket No. 00-64, RM-9117]

Radio Broadcasting Services; Madison, Alabama and Tullahoma, TN

AGENCY: Federal Communications Commission.

ACTION: Proposed rule; denial.

SUMMARY: This document denies a pending petition for rulemaking proposing the reallotment of Channel 227C1 from Tullahoma, Tennessee to Madison, Alabama, and the modification of the Station WUSX(FM) license accordingly. The Audio Division had requested comment on a petition filed by Tennessee Valley Radio, Inc. proposing the reallotment of Channel 227C1. See 65 FR 20,935, April 19, 2000. The petitioner subsequently amended its proposal in reply comments, asking that Channel 227C1 be removed from Tullahoma, Tennessee, and that Channel 227C2 be allotted at Madison, Alabama. In its reply comments, petitioner also revised the proposed reference coordinates for the new allotment at Madison, Alabama. The revised reference coordinates are 34-50-20 North Latitude and 86-30-53 West Longitude. This document denies the petition, based upon the conclusion that the proposed reallotment and change of community of license would not serve the public interest, and terminates the proceeding.

ADDRESSES: Federal Communications Commission, Washington, DC 20554.

FOR FURTHER INFORMATION CONTACT: Deborah A. Dupont, Media Bureau (202) 418-7072.

SUPPLEMENTARY INFORMATION: This is a synopsis of the Commission's Report and Order, MB Docket No. 00-64, adopted September 3, 2003, and released September 5, 2003. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20554, telephone (202) 863-2893, facsimile (202) 863-2898, or via e-mail qualexint@aol.com.

Federal Communications Commission.
John A. Karousos,
Assistant Chief, Audio Division, Media Bureau.

[FR Doc. 03-23924 Filed 9-18-03; 8:45 am]

BILLING CODE 6712-01-P